DEPARTMENT OF TRANSPORTATION

Federal Aviation Administration

Notice of Submission Deadline for Schedule Information for Chicago O'Hare International Airport, John F. Kennedy International Airport, Los Angeles International Airport, Newark Liberty International Airport, and San Francisco International Airport for the Summer 2018 Scheduling Season

AGENCY: Department of Transportation, Federal Aviation Administration (FAA).

ACTION: Notice of submission deadline.

SUMMARY: Under this notice, the FAA announces the submission deadline of October 5, 2017, for summer 2018 flight schedules at Chicago O'Hare International Airport (ORD), John F. Kennedy International Airport (JFK), Los Angeles International Airport (LAX), Newark Liberty International Airport (EWR), and San Francisco International Airport (SFO), in accordance with the International Air Transport Association (IATA) Worldwide Slot Guidelines (WSG). The deadline coincides with the schedule submission deadline for the IATA Slot Conference for the summer 2018 scheduling season.

DATES: Schedules must be submitted no later than October 5, 2017.

ADDRESSES: Schedules may be submitted by mail to the Slot Administration Office, AGC-200, Office of the Chief Counsel, 800 Independence Avenue SW., Washington, DC 20591; facsimile: 202-267-7277; or by email to: 7-AWA-slotadmin@faa.gov.

FOR FURTHER INFORMATION CONTACT: Jeffrey Planty, System Operations Services, Air Traffic Organization, Federal Aviation Administration, 600 Independence Avenue SW., Washington, DC 20591; telephone number: 202-267-0613; email: jeffrey.planty@faa.gov.

SUPPLEMENTARY INFORMATION: The FAA has designated EWR, LAX, ORD, and SFO as IATA Level 2 airports and JFK as an IATA Level 3 airport under the WSG. The FAA currently limits scheduled operations at JFK by Order until October 27, 2018.¹

¹ Operating Limitations at John F. Kennedy International Airport, 73 FR 3510 (Jan. 18, 2008) as amended 81 FR 32636 (May 24, 2016) and 81 FR 40167 (June 21, 2016).

The FAA is primarily concerned about scheduled and other regularly conducted commercial operations during peak hours, but carriers may submit schedule plans for the entire day. At ORD, the peak hours are 0700 to 2100 Central Time (1200 to 0200 UTC), at LAX and SFO from 0600 to 2300 Pacific Time (1300 to 0600 UTC), and at EWR and JFK from 0600 to 2300 Eastern Time (1000 to 0300 UTC). Carriers should submit schedule information in sufficient detail including, at minimum, the marketing or operating carrier, flight number, scheduled time of operation, frequency, aircraft equipment, and effective dates. IATA standard schedule information format and data elements (Standard Schedules Information Manual or SSIM, Chapter 6) may be used. The WSG provides additional information on schedule submissions and schedule updates at Level 2 and Level 3 airports.

The U.S. summer scheduling season is from March 25 through October 27, 2018, in recognition of the IATA northern summer period. The FAA understands there may be differences in schedule times due to different U.S. daylight saving time dates and will accommodate these differences to the extent possible.

The FAA generally uses average hourly runway capacity throughput for the schedule review at Level 2 airports, considering any differences associated with runway construction or other relevant operational and performance factors. The FAA will continue that practice to review the summer 2018 proposed schedules.

Airlines planning operations at LAX should be advised the airport plans construction on Runway 7L/25R and is expected to close the runway from mid-January to mid-May 2018. Los Angeles World Airports (LAWA), the airport operator, is currently finalizing construction plans. The FAA is reviewing the anticipated capacity impacts of the construction along with recent operational performance and demand trends. This includes surface congestion issues that are increasing operational complexity and impacting air traffic control as it manages surface movements. The FAA expects continuing discussions with LAWA, airlines, and other stakeholders on ways to reduce congestion and delay and manage operations more efficiently. LAWA conducts monthly meetings on construction and other operational issues that include local FAA air traffic control facilities, airlines, and other stakeholders. Such meetings may be the best regular source of construction project updates and the anticipated impacts.

In 2016, the FAA found it could not justify continued Level 3 slot controls at EWR as the operations were consistently below the allocated limits and the airport was underutilized. The FAA changed EWR from Level 3 to Level 2 effective with the winter 2016 scheduling season. The FAA anticipated as a result of the Level 2 decision, an increase in flights which could provide competitive and economic benefits. The FAA also anticipated that with the increase in flights, delays would increase above 2016 levels but would remain within the levels accepted when the FAA established Level 3 in summer 2008. In reviewing schedules for summer 2018, as well as any new requests for winter 2017, the FAA will consider the recent operational performance metrics including the average hourly runway throughput trends.²

² The FAA typically determines an airport's average adjusted runway capacity or throughput for Level 2 and Level 3 airports by reviewing hourly data on the arrival and departure rates that air traffic control indicates could be accepted for that hour. We also review the actual number of arrivals and departures that operated in the same hour. The higher of the two numbers, “called” or actual, are used for these purposes. Some dates may be excluded from analysis such as during periods when extended airport closures or construction impacts capacity.

Our review of the average adjusted airport runway capacity indicates an average of 79 hourly operations, which is below the limit in the FAA 2008 Order, and below the levels currently scheduled in some hours. For the winter 2016 season, the FAA goal was up to 79 movements in an hour with some reduced levels in adjacent hours to provide recovery periods. This was meant to allow a transition from Level 3 to the first scheduling season as Level 2. For the summer 2018 season, the performance data suggest a similar approach may improve performance. The FAA has determined a scheduling limit of up to 79 flights an hour is appropriate. The FAA will accept flights above that limit provided they were typically operated by the same airline for the summer 2017 season. At the same time, the FAA plans to work with airlines to retime some flights to less congested periods and have some hours to provide recovery periods. The mix of arrivals and departures, offsets for hours that may be above the limits, and the distribution of flights within an hour or adjacent hours will be considered. Beyond baseline flights, the FAA does not intend to approve new flights unless they can be accommodated within the limit. Based on demand for the summer 2017 scheduling season, the FAA anticipates the 1100 to 1259 and 1800 to 0059 UTC hours will be the peak periods without available capacity for new flights. Consistent with the WSG, carriers should be prepared to adjust schedules to meet available capacity in order to minimize potential congestion and delay.

The Level 2 airports also have a separate schedule facilitation process managed by the airport operator or a designated representative for certain types of flights, such as international passenger flights, or at particular terminals or gates. Those processes with the individual airports or terminals will continue separately from, and in addition to, the FAA review of schedules based on runway capacity. Airlines should submit schedule information directly to the airport operator representatives in accordance with the local procedures. The FAA may consider the need to harmonize terminal and runway availability in the schedule review process.

Issued in Washington, DC on September 21, 2017.
Michael C. Artist,
Vice President, System Operations Services.

[FR Doc. 2017-21045 Filed 9-27-17; 4:15 pm]

BILLING CODE 4910-13-P